DEPARTMENT OF TRANSPORTATION

Pipeline and Hazardous Materials Safety Administration

[Docket No. PHMSA-2013-0241; Notice No. 14-2]

Information Collection Activities

AGENCY: Pipeline and Hazardous Materials Safety Administration (PHMSA).

ACTION: Notice and request for comments.

SUMMARY: In accordance with the Paperwork Reduction Act of 1995, PHMSA is inviting comments on an information collection under Office of Management and Budget (OMB) Control No. 2137-0586 entitled “Hazardous Materials Public Sector Training and Planning Grants.” In a previous 60-Day Notice published under Docket No. PHMSA-2013-0241, Notice No. 13-18, in the Federal Register on December 4, 2013 [78 FR 72972], PHMSA invited comments on its intent to collect additional information from Hazardous Materials Emergency Preparedness (HMEP) grantees on the ultimate recipients of HMEP grants. PHMSA is requesting the additional information to respond to a statutory requirement in the Moving Ahead for Progress in the 21st Century Act (Pub. L. 112-141, July 6, 2012) (MAP-21) to submit an annual report to Congress that identifies the ultimate recipients of HMEP grants and contains a detailed accounting and description of each grant expenditure by each grant recipient, including the amount of, and purpose for, each expenditure. This 30-Day Notice acknowledges comments received regarding the 60-Day Notice and provides details on the information PHMSA will be collecting in order to comply with MAP-21.

DATES: Comments on this notice must be received by October 27, 2014 to be assured of consideration.

ADDRESSES: Send comments by mail to the Office of Information and Regulatory Affairs, Office of Management and Budget, Attention: Desk Officer for DOT-PHMSA, 725 17th Street NW., Washington, DC 20503, by fax, 202-395-5806, or by email, to OIRA_Submission@omb.eop.gov.

We invite commenters to address the following issues: (1) Whether the proposed collection of information is necessary for PHMSA to comply with the MAP-21 requirements, including whether the information will have practical utility; (2) the accuracy of PHMSA's estimate of the burden of the proposed information collection; (3) ways to enhance the quality, utility, and clarity of the information to be collected; and (4) ways to minimize the burden of the collection of information on respondents.

Instructions: All submissions must include the agency name and docket number for this notice at the beginning of the comment. All comments received will be posted without change to the Federal Docket Management System (FDMS), including any personal information.

Docket: For access to the dockets to read background documents or comments received, go to http://www.regulations.gov or DOT's Docket Operations Office (see ADDRESSES).

FOR FURTHER INFORMATION CONTACT: Aaron Mitchell, Director, Outreach, Training, and Grants Division, Office of Hazardous Materials Safety (PHH-50), Pipeline and Hazardous Materials Safety Administration, (202) 366-1634, PHMSA, 1200 New Jersey Avenue SE., Washington, DC 20590.

SUPPLEMENTARY INFORMATION: Section 1320.8(d), Title 5, Code of Federal Regulations (CFR) requires PHMSA to provide interested members of the public and affected agencies an opportunity to comment on information collection and recordkeeping requests. This notice identifies a revised information collection PHMSA will submit to OMB under OMB Control Number 2137-0586, entitled “Hazardous Materials Public Sector Training and Planning Grants,” to comply with Moving Ahead for Progress in the 21st Century Act (Pub. L. 112- 141, July 6, 2012) (MAP-21). This collection of information is contained in 49 CFR, part 110, Hazardous Materials Public Sector Training and Planning Grants. We are revising the information collection to implement the statutory requirement that PHMSA must identify the ultimate recipients of HMEP grants and provide to Congress a detailed accounting and description of each grant expenditure by each grant recipient, including the amount of, and purpose for, each expenditure.

A. HMEP Grants

PHMSA is responsible for administering the HMEP grant program. The HMEP grant program, as mandated by Federal hazardous materials transportation law (Federal hazmat law; 49 U.S.C. 5101 et seq.) provides Federal financial and technical assistance to states, territories, and Native American tribes to “develop, improve, and carry out emergency plans” within the National Response System and the Emergency Planning and Community Right-To-Know Act of 1986 (Title III), 42 U.S.C. 11001 et seq. The program was established in 1993 to ensure that the needed planning, training, and infrastructure are in place to protect the public in the event of a transportation-related hazardous materials incident. The grants are used to develop, improve, and implement emergency plans; train public sector hazardous materials emergency response employees to respond to accidents and incidents involving hazardous materials; determine flow patterns of hazardous materials within a state and between states; and determine the need within a state for regional hazardous materials emergency response teams.¹

¹ The HMEP grants program is funded by registration fees collected from persons who offer for transportation or transport certain hazardous materials in intrastate, interstate, or foreign commerce.

Among the statutory requirements for HMEP grants are funding for planning and training with pass-through requirements ², recipient sharing in 20 percent of the total costs of the planning and training activities, and maintenance of the level of aggregate expenditures by a recipient for the last five (5) fiscal years. The program is a discretionary grant program. PHMSA is not obligated to make an award if an applicant does not meet PHMSA's requirements. PHMSA has provided funding to eligible states, territories, or Native American tribal applicants that submit a completed, thorough application with the required documentation. Annual obligations for all recipients are approximately $22 million, while individual award amounts range from less than $50,000 to more than $1 million.

² With pass-through grants, states apply to the Federal government for a grant. After receiving the grant, the state then passes a certain percentage of the Federal funds on to sub-grantees. At least 75 percent of the Federal training funds must be used to provide training to local responders, including volunteers.

B. MAP-21 and Enhanced Grant Post-Award Monitoring

On July 6, 2012, President Obama signed into law the Moving Ahead for Progress in the 21st Century Act (MAP-21), which among other requirements, stipulates that in its annual Report to Congress, PHMSA must identify the ultimate recipients of HMEP grants and include a detailed accounting and description of each grant expenditure by each grant recipient, including the amount of, and purpose for, each expenditure. In the past, PHMSA has not collected this information. Requiring this information now constitutes a revision to an existing information collection under the Paperwork Reduction Act (PRA) and necessitates approval by OMB.

The additional information will provide a better understanding of how the allocated funds are being used and will enable PHMSA to help grantees to better develop, improve, or implement emergency plans; train emergency response employees; determine flow patterns of hazardous materials within a state and between states; and determine the need within the state, territory, or Native American tribal land for regional hazardous materials emergency response teams.

C. 60-Day Notice

On December 4, 2013, PHMSA published a Federal Register Notice [78 FR 72972] with a 60-day comment period, soliciting comments on revisions to the information we collect from HMEP grantees on the ultimate recipients of the HMEP funds. The revisions are intended to comply with a statutory requirement that PHMSA must report to Congress the ultimate recipients of HMEP grants and include a detailed accounting and description of each grant expenditure by each grant recipient, including the amount of, and purpose for, each expenditure. Specifically, in accordance with the statutory mandate in 49 U.S.C. 5116(k) we proposed to request of HMEP grant recipients, up to four times a year, the following questions:

1. General Grantee and Sub-grantee Information

a. Grantee Information

i. What is the grantee's name?

ii. What is the name of the point of contact?

iii. What is the telephone number of the point of contact?

iv. What is the email address of the point of contact?

v. What is the HMEP Grant number?

vi. What is the reporting period for which the report is being submitted?

b. Sub-grantee information

i. What are the names and requested funding amount for each sub-grantee?

ii. What is the award amount of each sub-grantee?

iii. What is the amount expended by the close of the reporting period for each sub-grantee?

iv. What was the grantee's selection process and how did the grantee choose the funding allocated to each sub-grantee?

v. How did the grantee ensure that no less than 75% of HMEP training grant funds are available to benefit public sector employees?

2. Information on Local Emergency Planning Committees

a. What is the number of active Local Emergency Planning Committees or equivalent?

b. What is the number of inactive Local Emergency Planning Committees or equivalent?

c. What is the number of emergency response plans currently in place?

d. What is the number of Local Emergency Planning Committees participating on the grant?

3. Assessment of Potential Chemical Threats

a. What is the total number of hazards chemicals produced, used, or stored within the applicant's state/tribe/territory?

b. What is the total number of facilities that produce, use, or store hazardous chemicals within the applicant's state/tribe/territory?

c. What is the total number of facilities that produce, use, or store extremely hazardous substances within the applicant's state/tribe/territory?

4. Assessment of Response Capabilities for Accidents/Incidents Involving the Transportation of Hazardous Materials

a. What is the total number of emergency responders in the following disciplines?

i. Police

ii. Fire

iii. EMS

iv. Other

b. What is the number of emergency response teams with a HAZMAT specialty unit?

5. HMEP Planning and Training Grant Reporting

a. Provide completed activities for the reporting period, including:

i. What is the name of the activity?

ii. What is the purpose of the activity?

iii. What is the number of participants involved in the activity?

iv. What are the name and description of supplies needed to conduct the activity (if applicable)?

v. What are the name and description of any equipment needed to conduct the activity (if applicable)?

vi. What is the expected start and end time for the activity (if applicable)?

b. What is the outcome ³ of each completed activity?

³ Outputs are measures of a program's activities; outcomes are changes that result from the activities.

c. What is the expected output of each completed activity?

d. Provide actual cost of each completed activity using the following object categories:

i. What are the personnel costs?

ii. What are the fringe benefits costs?

iii. What are the travel costs?

iv. What are the equipment costs?

v. What is the cost of supplies?

vi. What are the contractual costs?

vii. What are the indirect costs?

viii. What are other costs not listed?

e. What is the amount of non-Federal funds contributed to this activity, if any?

f. What are the aggregate expenditures exclusive of Federal funds for the last five years?

6. HMEP Planning Goal and Objectives

PHMSA intends to ask each planning grant recipient to explain the following goals and objectives.

a. What are the current abilities and authorities of the grant recipient's program for preparedness planning?

b. What is the need to sustain or increase program capability?

c. What is the current degree of participation in regional hazardous materials emergency preparedness teams?

d. Do you intend to assess the need for a regional hazardous materials emergency preparedness team?

e. What is the impact that the grant has/will have on the program?

7. HMEP Training Goals and Objectives

a. What are the overall training needs of the jurisdiction, quantified in terms of number of persons needing training and the number of persons currently trained in the different disciplines and planning and response functions?

b. What are the ways in which the training grant will support the diverse needs in the jurisdiction, such as decentralized delivery of training to meet the needs and time considerations of local responders or how the grant program will accommodate the different training needs for rural versus urban environments?

8. HMEP Training and Planning Assessment

PHMSA intends to ask each grant recipient to provide a progress report during the course of the grant cycle on the following:

a. A narrative detailing how goals and objectives for the HMEP planning grant were achieved;

b. A narrative detailing how the state/tribe/territory, through the use of HMEP planning funds, is better suited to handle accidents and incidents involving the transport of hazardous materials;

c. Number of emergency plans updated during the performance period;

d. Number of emergency response plans written during the performance period;

e. Number of commodity flow studies conducted during the performance period;

f. Number of hazard risk analyses conducted during the performance period;

g. Number of hazardous materials drills or exercises conducted during the performance period involving air, water, highway, and rail;

h. A narrative detailing how the state/tribe/territory, through the use of HMEP planning and training funds, is better suited to handle accidents and incidents involving the transport of hazardous materials; and

i. Number of fire, police, EMS, and any additional disciplines that received awareness, operation, technician, refresher, Incident Command System, site specialist training.

9. Hazmat Transportation Fees

a. Are fees collected solely for the transportation of hazardous materials in the grant recipient's state, territory, or Native American tribe? (yes or no)

b. If such fees are collected, are they used to carry out purposes related to the transportation of hazardous materials? (yes or no)

c. If fees are used to carry out purposes related to the transportation of hazardous materials, what is the dollar amount collected?

10. Grantee Complies with National Incident Management System and Grant Application Is Reviewed By SERC

a. Does your program comply with the National Incident Management System? (NIMS) (yes or no)

b. Is each member of the SERC given the opportunity to review the HMEP Grant application before submitting it to PHMSA? (yes or no)

11. HMEP Grant Program Administration

a. If applicable, what changes have been made in the grant program since the last report; i.e., program priorities, points of contact, tax or employee identification numbers?

b. If applicable, what issues have impacted performance of the grant; i.e., response to natural disasters or loss of key personnel?

D. Discussion of Comments

The comment period for the 60-Day Notice closed on February 3, 2014. PHMSA received six comments from national organizations representing grant recipients, grant recipients themselves, and trade association representing hazmat shippers. The comments are sorted into four categories: In opposition; in support; beyond-the-scope; and questions seeking clarification.

Comments in the Docket for this action may be viewed at http://www.regulations.gov under Docket Number PHMSA-2013-0241. A listing of the Docket entries is provided below.

Commenter | Docket ID. Number
Daniel Roe, Past Executive Director of Arizona's State Emergency Response Commission | PHMSA-2013-0241-0002
International Association of Fire Chiefs (IAFC) | PHMSA-2013-0241-0003
California Governor's Office of Emergency Services (California) | PHMSA-2013-0241-0004
National Association of SARA Title III Program Officials (NASTTPO) | PHMSA-2013-0241-0005
Institute of Makers of Explosives (IME) | PHMSA-2013-0241-0006
Oklahoma Hazardous Materials Emergency Response Commission (Oklahoma) | PHMSA-2013-0241-0007

Most of the comments in opposition to the information collection request are from representatives of grantees, e.g., NASTTPO, and grantees themselves, i.e., California and Oklahoma. Generally, these comments indicate that some of the data requested is not relevant to the HMEP program, is not readily available, or getting the information would take much more time than stated in the 60-Day Notice. The comments in favor of the information collection are from IME and IAFC. These comments support collecting information that will improve the accountability and transparency of the HMEP grant program. The comments beyond-the-scope are from IAFC, IME, and California. They request that PHMSA ask grantees for information in addition to that requested in the 60-Day Notice or change the way in which grant funds are distributed. The questions that seek clarification of the terminology in the 60-Day Notice are from California.

1. Comments Opposed to the Information Collection

Many of the commenters, who oppose the proposed revisions to the HMEP grant information collection request, consider the proposed questions to be an excessive burden on applicants without a measurable benefit or an identified use of the information.

California's comment to this point is indicative of many of the concerns voiced by other commenters. California states:

“The proposed data collection effort may be soliciting information that PHMSA needs for internal purposes or for their report to Congress, but much of it seems to be misplaced within the HMEP Grant Program. The data being requested will place an undue burden on Grantees and [Local Emergency Planning Committees] LEPCs, does not provide meaningful information, and will further erode the level of interest and participation by eligible sub-grantees. There is an overall question of why much of this information is being requested, particularly at the level of detail that is indicated. Some of it is problematic—if not downright impossible—to obtain, and makes it appear that the HMEP Grant Program is administered by staff who do not understand the beneficiaries' roles and responsibilities.”

PHMSA understands that many HMEP grant and sub-grant recipients do not have the time or resources to collect and record vast quantities of information. While PHMSA has a responsibility to collect the information required by MAP-21, in addition to the information that was already required by statute and regulations, it does not intend to collect information that is inaccessible or otherwise unattainable to our grantees. In this 30-Day Notice, PHMSA has removed questions that, to PHMSA's knowledge, are beyond what is required by law. They are enumerated in the following paragraphs.

a. Information Requested Is Inaccessible or Nonexistent

In the 60-Day Notice, PHMSA proposed to ask grantees to report the total number of facilities that produce, use, or store hazardous chemicals; and information on the total number of chemicals produced, used, or stored. NASTTPO and Oklahoma point out correctly that grantees cannot determine the total number of facilities that produce, use, or store hazardous chemicals and further indicate that information on the total number of chemicals produced, used, or stored is nonexistent. In this 30-Day Notice, we are revising these questions to indicate that PHMSA intends to collect information on facilities with hazardous chemicals ⁴ in quantities that equal or exceed the following thresholds: For Extremely Hazardous Substances (EHSs)(see 40 CFR part 355 Appendix A and Appendix B), either 500 pounds or the Threshold Planning Quantity (TPQ), whichever is lower; and for all other hazardous chemicals, 10,000 pounds from sources other than HMEP applicants and grantees. As such, we are not requiring the grantees to provide the total number of facilities and the total number of chemicals; rather, we are asking that grantees only provide the indicated threshold quantities.

⁴ Hazardous chemicals are any substances for which a facility must maintain a MSDS under the OSHA Hazard Communication Standard, which lists the criteria used to identify a hazardous chemical.

In the 60-Day Notice, PHMSA proposed to ask grantees the number of emergency response plans in the state, territory or Native American tribal land. Oklahoma indicates that emergency response plans created by private facilities are not available to grantees; whereas, emergency operations plans, which are created by counties or cities, and reviewed by LEPCs and SERCs, are available. For clarification, PHMSA is seeking plans prepared by LEPCs according to 42 U.S.C. 11003(a).⁵

⁵ 42 U.S.C. 11003(a) Plan required, Each local emergency planning committee shall complete preparation of an emergency plan in accordance with this section not later than two years after October 17, 1986. The committee shall review such plan once a year, or more frequently as changed circumstances in the community or at any facility may require.

In the 60-Day Notice, PHMSA asked “what is the number of emergency response teams with a HAZMAT specialty unit?” NASTTPO responded by stating “[i]ndustry is not required to report hazmat response teams. Many do have such capacity and LEPCs include these teams in their planning. Nonetheless, grantees cannot reasonably obtain this information.” The emergency response teams to which PHMSA referred are not responders in private industry, rather they are state and local enforcement personnel. However, it is possible that HMEP grantees do not have the information statewide. For that reason, in this 30-Day Notice, PHMSA is revising the question to request only the number of public sector Hazmat response teams.

PHMSA proposed to ask specific information on all LEPCs in the state, territory, or Native American tribal land. Oklahoma states that some of the information PHMSA requests on LEPCs are not required by Federal or state regulations to be reported and, as such, the information is unavailable. Oklahoma contends that:

“If an LEPC receives HMEP money, it is reasonable and appropriate for the grantee to require such things as lists of attendees to meetings and exercises. However, if an LEPC does not receive HMEP funding, the grantee has no mechanism to compel an LEPC to provide such information.”

PHMSA recognizes that only LEPCs that receive HMEP funds are required to report attendees of meetings and exercises. For that reason, in this 30-Day Notice we are revising the questions regarding LEPCs to include only LEPCs receiving HMEP funds.

PHMSA proposed to gather information on transportation fees collected by each state. Oklahoma responded by stating that “[i]t would seem more reasonable for US DOT, of which PHMSA is a part, to inquire of state DOTs about hazardous materials transportation fees. To put that burden on a grantee is unreasonable.” The current HMEP application includes a narrative section in which the second question pertains to state transportation fees. States that do not assess a fee, such as Oklahoma, simply state that fact; states that do collect fees, such as California, have provided a narrative. Furthermore, in awarding HMEP grants, PHMSA is required by the Federal hazmat law to consider whether the state or Native American tribe imposes and collects a fee on the transportation of hazardous materials and whether the fee is used only to carry out a purpose related to the transportation of hazardous materials. The information we are requesting is consistent with our statutory mandate. While commenters did not provide an estimate of the burden hours, in this 30-Day Notice PHMSA maintains the questions regarding hazmat transportation fees, but is increasing the total additional information collection burden from 11 hours (62 respondents × 0.17 hour per respondent = 11 hours) to 28 hours (62 respondents × .45 hour per respondent = 28 hours (rounded up)). We also note that in the 60-Day Notice, we indicated that we have 65 grantees. The current number of grantees is 62, so in this 30-Day Notice we are revising our information collection numbers accordingly.

b. PHMSA Currently Collects the Proposed Information

As indicated in the 60-Day Notice, PHMSA proposes to collect information that “identifies the ultimate recipients of HMEP grants and contains a detailed accounting and description of each grant expenditure by each grant recipient, including the amount of, and purpose for, each expenditure.” NASTTPO contends that PHMSA already collects “detailed accounting and description of each grant expenditure.” It states: “Grantees have been subjected to detailed, multi-day, audits of their use of the grant funds where this information is demanded.”

Since 2011, PHMSA has performed site visits and desk audits to ensure that grantees are complying with the HMEP grant requirements. PHMSA's goal is to conduct site visits to roughly five out of approximately 62 grantees, depending on resource availability, are performed during the course of each year. The site visits are 1½ to 2 days long and include interviews on the first day, limited review of documentation on the first day and the first part of the second day, and informal feedback to the state representatives at a closeout session. Desk audits are performed on approximately 10 out of 62 grantees each year. The format for the desk audits includes advance request for certain materials, an approximately 2-hour conference call with state representatives, and a feedback session. These types of audits of the grant program may require select review of the detailed information required by Congress.

PHMSA understands that collecting detailed information is time-consuming. While Congress is requiring PHMSA to collect more detailed information, as indicated above, in this 30-Day Notice, PHMSA has removed the questions that commenters have indicated are unanswerable due to information unavailability to the grantees or nonexistence, unless it is required under statute or regulation. Furthermore, in response to commenters expressing frustration with the amount of information required, PHMSA has streamlined other questions so that grantees may answer in a more simplified way. Specifically, in this 30-Day Notice, PHMSA is simplifying all certification questions by placing them on one form that requires an initial next to each certification and/or compliance statement. This will eradicate the need for grantees to type out a certification or statement of compliance during the application process.

c. Information PHMSA Requests Does Not Relate to Hazmat Transportation Risks

In the 60-Day Notice, PHMSA proposed to request information on chemicals that are stored or used in the grantee's jurisdiction. NASTTPO states that “the potential for an accident in hazardous materials transportation has almost nothing to do with the amount of hazardous material used or stored in the state.” While many factors contribute to hazmat incidents, PHMSA disagrees with NASTTPO's contention that there is not a positive correlation between proximity of chemical facilities and hazmat incidents. In fact, the HMEP grant program was established to increase state, territorial, Native American tribal, and local effectiveness in safely and efficiently handling hazardous materials accidents and incidents, enhance implementation of the Emergency Planning and Community Right-to-Know Act of 1986 (EPCRA), and encourage a comprehensive approach to emergency training and planning by incorporating the unique challenges of responses to transportation situations. EPCRA was signed by President Reagan in October 1986 and implemented in 1987 in response to deaths and injuries as a result of incidents at fixed facilities in Bhopal, India and in West Virginia. Furthermore, 49 USC, chapter 51, section 5116 (b)(4)(A) requires that PHMSA, when determining the grant funds allotted to each grantee, consider “the number of hazardous material facilities in the state or on land under the jurisdiction of the tribe.” As such, we intend to collect the information required by law, but in this 30-Day Notice, we propose to collect only information of which or to which applicants and grantees have access. As previously stated, we acknowledge the difficulty that applicants and grantees may have in obtaining data on facilities with Extremely Hazardous Substances in quantities of either 500 pounds, or the Threshold Planning Quantity (TPQ), whichever is lower, or other hazardous chemicals in quantities of 10,000 pounds or more. As such, PHMSA will look to other sources to retrieve this information.

d. Burden Hours are Underestimated

Daniel Roe commented that:

“[T]he simpler you keep reporting procedures and the fewer and more meaningful those procedures are, the more successful and enduring those programs will remain. PHMSA, in these proposals, is over-burdening an already over-burdened structure and will destroy it through excessive administrative taskings which these proposals are.”

NASTTPO indicates that the burden hours PHMSA estimated in the 60-Day Notice were too low, stating:

“To the extent that any of the information requested by PHMSA exists, much of it exists on paper rather than in an electronic form. Further, much of this information will be in the hands of state or tribal agencies other than the grantee agency. The grantees are not in control of the level of cooperation or how expeditiously these other agencies will respond.”

NASTTPO indicates that “twenty minutes is not enough time to answer a set of questions for which the grantee does not have nor can obtain the information. Given that some of this information is simply impossible to obtain under current laws and regulations because it does not exist within any government agency, grantees will spend time for which no result is even possible.”

NASTTPO further indicated that PHMSA fails to understand that the grantee agency within many states or tribes may not be the agency that collects the Emergency Planning and Community Right-to-Know Act (EPCRA) information. Sections 301 to 303 of EPCRA require the governor of each state to designate a State Emergency Response Commission (SERC) that is responsible for implementing EPCRA provisions within its state. In accordance with the HMEP grant terms and conditions, all members of the SERC must be provided the opportunity to review both the training and planning grant applications. While the agency responsible for overseeing the HMEP grant program may not be the same as the agency collecting EPCRA information, the two agencies within the state (if they are different) must maintain a close relationship to comply with the terms and conditions of the HMEP grant.

PHMSA estimated that it will take each respondent approximately 60 minutes to answer the list of questions. California asks “What is the methodology for determining this? It is this grant program manager's estimation that the coordination and research that will be required to obtain the requested data will far exceed this estimate.”

In response to comments from grantees and their representatives, in this 30-Day Notice PHMSA is either removing proposed questions or refining the questions to include information PHMSA perceives as being available to the grantees. Furthermore, PHMSA has streamlined its proposed application template to conform with its proposed reporting templates. By doing so, applicants will be able to seamlessly transfer and relate back to data in their applications, midyear reports, and final reports. Finally, we have increased the estimated number of hours it will take to assess potential chemical threats from 22 hours (62 respondents × .33 hour per respondent = 20 hours) to 62 hours (62 respondents × 1 hour per respondents = 62 hours).

2. Comments in Support of the Information Collection

In general support of the information collection proposed, IME states:

“We support PHMSA's initiative to begin the important task of collecting information that will improve the accountability and transparency of the HMEP. We believe this information is essential to making decisions about the strategic allocation of grant funds. Informed, prepared, and capable first responder organizations are the best asset communities can have in the event of an emergency.”

PHMSA recognizes IME's interest in the HMEP grant program as a trade association that represents hazardous materials manufacturers who pay registration fees that support the HMEP grant program. PHMSA's goal in this 30-Day Notice is to comply with the MAP-21 requirements and improve accountability and transparency with HMEP grant recipients.

a. More Accountability With Information Collected Throughout the Grant Cycle

In support of the proposed information collection throughout the grant cycle, IME states:

“The questions PHMSA proposes to collect under the headings “HMEP Planning and Training Grant Reporting” and “HMEP Training and Planning Assessment” are critical to establishing a baseline of information about how the HMEP funds have been used and what has been accomplished. This retrospective reporting is the kind of accountability Congress intends.”

PHMSA intends to use the information collected to better determine how the funds are used throughout the grant cycle, and what has actually been accomplished with their use. With this information, PHMSA will be able to fulfill its legal obligation. More importantly, it will also be able to better understand why some grant programs are successful and why others are not. From that information, PHMSA intends to work closely with its grantees, NASTTPO, and other stakeholders to help the less successful programs improve their programs. Further, we will continue to perform desk audits and site visits to ensure the programs are in compliance with the HMEP program requirements.

IAFC suggests that:

“PHMSA should also require quarterly milestone reports from the grant recipients to ensure that grant expenditures are on track and on time. The justification for this recommendation is that there are a large number of grant dollars that go unspent each year and are returned to the PHMSA. Quarterly milestone reports would keep grant recipients and sub-recipients on task so that grant deadlines are met.”

PHMSA currently collects quarterly financial reports and grant specialists are familiar with the progress of the use of the grant funds throughout the grant cycle through reimbursement requests, regular emails, and telephone calls, and the more formal bi-monthly calls to grantees. However, PHMSA does not collect the level of detailed accounting mandated by MAP-21. PHMSA agrees with IAFC that the proposed reporting requirements will better enable the hazmat grant program to monitor the progress of the activities funded by the HMEP grant throughout the grant cycle and become aware earlier in the grant cycle when proposed activities are not conducted. PHMSA shares the IAFC's concern with grantees who do not expend all of their HMEP awards. However, the program believes that this may in part be a result of emergencies that impacted local staff to administer the grant. As such, in this 30-Day Notice, PHMSA is proposing to ask grantees information on any emergencies or known accidents and incidents of national recognition that may have impacted its ability to administer HMEP grants during the program year. This will allow the program to work closely with grant recipients experiencing a hardship and provide additional technical assistance and extend deadline as needed.

b. Assessment of State Hazmat Fees in HMEP Grant Allocation of Funds

IME correctly states that:

“When Congress established the HMEP in the 1990 HMTA amendments, PHMSA was directed to consider whether a state imposed and collected hazardous materials transportation fees and whether those fees were used to carry out a purpose related to such transportation in determining grant allocation needs.” “In the 2012 amendments, Congress removed PHMSA's discretion and directed the agency to collect this information every two years.”

During FY2015-16, PHMSA plans to assess and update its methodology for allocating grant funds in future grant years to better determine the needs of each grant applicant and allocate funds where needed most.

3. Comments Beyond-the-Scope

IAFC supports the continued funding of HMEP grants through hazmat shipper and carrier registration fees, and believes that “additional funding must be allocated to help prepare America's first responders to respond to these new and emerging challenges.” To accomplish this, IAFC suggests that:

“HMEP Grants Program should be changed to require that a fixed percentage of the annual funding be subject to a competitive process for non-profit organizations and to non-profit employee organizations which demonstrate expertise in hazardous materials response planning and training.”

PHMSA fully supports use of HMEP funds to train emergency responders to respond to hazmat transportation incidents. In fiscal year 2012, 97,900 emergency responders were trained to the NFPA 472 standard or to 29 CFR 1910.120 using HMEP grant funds. Further, the Hazardous Materials Instructor Training (HMIT) grant is made available to non-profit organizations that demonstrate: (1) Expertise in conducting a training program for hazmat employees and (2) the ability to reach and involve, in a training program, a target population for hazmat employees. $3,472,336.00 in HMIT grant funds was made available in fiscal year 2012 to non-profit hazmat employee organizations to fund train-the-trainer instruction to hazmat employees. Trainers developed from this grant program are familiar with their workplaces, the jobs that they and their co-workers perform, and the hazards they encounter on a daily basis; therefore, they are in an ideal position to train and work with their co-workers and employers to ensure that the workplace is safe relative to hazmat, and offer assistance and advice on hazmat-related issues.

PHMSA supports the use of HMEP funds to identify national hazmat training gaps. However, IAFC's request to change HMEP grant fund allocation to: “require that a fixed percentage of the annual funding be subject to a competitive process for non-profit organizations and to non-profit employee organizations which demonstrate expertise in hazardous materials response planning and training,” would require a change in the statutory language for the HMEP grant. As such, it is beyond-the-scope of this Notice.

IAFC suggests that PHMSA collect all requests from sub-grantees that were funded and, more importantly, all requests that were not funded. IAFC believes that:

“[T]he information would provide a clear and holistic picture of the needs for a grant recipient and a sub-grantee. This information could then be used to identify gaps and gauge how HMEP grant funds are being used and distributed within the jurisdiction to sub-recipients. Any unmet needs and gaps could then be used for justification to continue the HMEP grant program.”

IAFC further suggests that:

“PHMSA should require a report from each grant recipient detailing each sub-recipient that did not spend its allocation and an explanation as to why the funding was returned. The IAFC believes that requiring such a report will motivate the grant recipient to stay on task and complete the grant within the grant compliance period.”

PHMSA agrees with IAFC that information that provides detailed accounting as to why each sub-recipient did not spend its allocation and an explanation as to why the funding was returned would be informative. This is not information that is required by MAP-21, nor was it proposed in the 60-Day Notice. For these reasons, we cannot ask the question of HMEP grantees.

IAFC further suggests that:

“Any allocation of funds should include the reinstatement of funding for the National Hazardous Materials Fusion Center, additional training to improve rural hazmat emergency response, and a comprehensive approach for providing funding to locally train first responders.”

PHMSA's HMEP grant program currently oversees the state, territory, and Native American tribal use and distribution of funds to ensure that the funds are used in accordance with 49 U.S.C., chapter 51, section 5116 and 49 CFR part 110, through review of the application, quarterly and final reports, approval or denial of reimbursement requests, desk audits, and site visits. MAP-21 requires that PHMSA collect even further information that identifies the ultimate recipients of HMEP grants and contains a description of each grant expenditure by each grant recipient, including the amount of, and purpose for, each expenditure.

While not directly, PHMSA does support the activities in the National Hazardous Materials Fusion Center, additional training to improve rural hazmat emergency response, and a comprehensive approach for providing funding to locally train first responders; however, the law does not provide that PHMSA oversee the decision making of the HMEP grantees as to how it chooses to allocate funds to sub-grantees. Through an aggressive outreach program, PHMSA attempts to work with local emergency responders and LEPCs and educate them as to transportation hazmat law and the grant opportunities available to them through their state, territorial or Native American tribal designated agencies.

IME suggests that PHMSA ask states whether or not they would benefit from PHMSA's exercise of its discretionary authority to transfer planning funds to augment the training grant program. While this question is beyond-the-scope of this Notice, states do benefit from PHMSA's discretionary authority to transfer planning funds to augment the training grant program, and vice versa.

California states that “[i]t appears that the public is the intended beneficiary of the grant activities. However, currently PHMSA requires that the public sector hazmat response employees are the beneficiaries, disallowing projects that involve public awareness & training efforts.” 49 U.S.C., section 5116 is specific as to how the HMEP funds may be used. For planning grants, section 5116(a)(2)(B) requires that “the state agrees to make available at least 75% of the amount of the grant under paragraph (1) of this subsection in the fiscal year to local emergency planning committees established under section 301(c) of the Act (42 U.S.C. 11001(c)) to develop emergency plans under the Act.” For training grants, section 5116(b)(2)(C) requires that the funds will be awarded to a state “only if the state agrees to make available at least 75% of the amount of the grant under paragraph (1) of this subsection in the fiscal year for training public sector employees a political subdivision of the state employs or uses.”

4. Questions Seeking Clarification

California asked a number of questions that seek clarification of the proposed information collection activities. These questions are listed and answered below.

In response to the statement in the 60-Day Notice, “The HMEP grant program, as mandated by Federal hazardous materials transportation law (Federal hazmat law; 49 U.S.C. 5101 et seq.) provides Federal financial and technical assistance to states, territories, and Native American tribes to “develop, improve, and carry out emergency plans,” California asks: “What is the intent under the grant program? Response/operational-related activities are not currently allowed by PHMSA under the HMEP Grant program. Is this a change in the scope of the grant?”

The scope of the grant has not changed. Since the HMEP grant was established, 49 U.S.C. 5116(a)(1)(A) has provided that planning grants will be made available “to develop, improve, and carry out emergency plans under the Emergency Planning and Community Right-To-Know Act of 1986 (42 U.S.C. 11001 et seq.).”

In response to the statement in the 60-Day Notice that “the program was established in 1993 to ensure that the needed planning, training, and infrastructure are in place . . .,” California asked: “What is included in infrastructure under the grant program? Response/operational-related activities are not currently allowed by PHMSA under the HMEP Grant program. Is this a change in the scope of the grant?” The scope of the grant has not changed. The infrastructure in this context is intended to mean active LEPCs and emergency responders in communities.

In response to the statement in the 60-Day Notice that “the program was established . . . to protect the public in the event of a transportation-related hazardous materials incident,” California commented: “It appears that the public is the intended beneficiary of the grant activities. However, currently PHMSA requires that the public sector hazmat response employees are the beneficiaries, disallowing projects that involve public awareness & training efforts.” While public awareness and training may mitigate the risks associated with hazmat transportation incidents, the direct correlation is not always apparent. It is PHMSA's statutory obligation to allocate the funds to be awarded to LEPCs and public sector employees. According to 49 U.S.C. 5116(a)(2)(B), for planning grant funds at least 75 percent of the amount of the grant is intended for local emergency planning committees; and according to 49 U.S.C. 5116(b)(2)(C), for training grant funds, at least 75% of the amount of the grant is intended for training public sector employees a political subdivision of the state employs or uses. PHMSA would consider certain public awareness and training activities as eligible for HMEP grant funds if the grantee can clearly show that the activities support emergency planning and training as described in 49 U.S.C. 5116 and 49 CFR part 110.

In response to the information PHMSA proposed to request in the 60-Day Notice: “An explanation of how the grantee made no less than 75% of HMEP training grant funds available to benefit public sector employees,” California asked “Does this apply only to the training grant?” The answer is yes. As stated in 49 CFR 110.30(b)(3), pertaining to planning, A written statement agreeing to make at least 75% of the Federal funds awarded available to LEPCs and an explanation of how the applicant intends to make such funds available to them for developing, improving, or implementing emergency plans is required. Similarly, 49 CFR 110.30(c)(3) pertaining to training, requires applicants to provide a written statement agreeing to make at least 75% of the Federal funds awarded available for the purpose of training public sector employees employed or used by political subdivisions.

In response to PHMSA's statement that “PHMSA is seeking to collect information regarding LEPCs or comparable entities,” California asks “What is comparable entity to LEPC?” EPCRA mandates that LEPC membership must include; (1) Elected state and local officials, (2) Police, fire, civil defense, and public health professionals, (3) Environment, transportation, and hospital officials, (4) Facility representatives, (5) Representatives from community groups and the media. A body appointed by the SERC/TERC that meets these requirements and is the ultimate recipient of HMEP funds, such as a Regional Review Committee as established in Minnesota, would be considered comparable to a LEPC.

In response to PHMSA's statement that “one way in which PHMSA achieves its mission is to provide funding to grantees, who, in turn, fund LEPCs to prepare the public and first responders to reduce consequences if an incident does occur,” California asks “Currently PHMSA does not allow LEPC activities that accomplish public preparedness activities. Is this a change in the scope of allowable activities?” The answer is no, there has been no change in scope of allowable activities. The HMEP funds are to go towards LEPC planning activities for developing, improving, and implementing emergency plans for hazardous materials transportation incidents, not public preparedness activities.

Additionally, in response to PHMSA's statement: “One way in which PHMSA achieves its mission is to provide funding to grantees who, in turn, fund LEPCs to prepare the public and first responders to reduce consequences if an incident does occur,” California stated: “In California, the LEPCs do not have a mechanism for accepting any type of funds. They are a volunteer conglomerate of public and private stakeholder entities that all come together (using their own agencies financial support) to comply with their mandates under the law. The funds are sub-granted to local government jurisdictions, with the approval of the LEPC.” While California does not pass through its HMEP grant funds directly to LEPCs, many other states do.

California asked if there are data or statistics to support the following statement in PHMSA's 60-Day Notice: “the consequences of incidents involving hazardous materials transportation could be greatly reduced when a locality has an active LEPC with information on what hazardous materials are passing through its community.” While PHMSA has no hard data to support this claim, LEPCs were established in EPCRA to identify chemical hazards, develop and maintain emergency plans in case of an accidental release, and encourage continuous attention to chemical safety, risk reduction, and accident prevention in their communities. Because of their broad-based membership, LEPCs are able to foster a valuable dialogue within the emergency response community to prevent and prepare for accidental releases of hazardous chemicals. Their usefulness, when they actively plan for hazardous materials releases in transportation, is recognized by the National Transportation Safety Board (NTSB) and the Chemical Safety Board (CSB) in their analysis of incidents and accidents. Many of the NTSB and CSB reports indicate that had emergency responders been prepared, people could have been evacuated ⁶ more readily, emergency responders would have been aware of the nature of the hazardous materials involved in an accident,⁷ and lives could have been saved.⁸ California acknowledges that:

⁶ See NTSB P-93-17.

⁷ See NTSB RAR-07-01 and NTSB-RAB-06-04.

⁸ See Emergency Preparedness: Findings from CSB Accident Investigations at: www.youtube.com/watch?v=R2Ez7lkjg1Y.

“While grant funding to support LPEC planning initial responses to foreseeable HazMat transportation incidents would most likely reduce the consequences of these incidents and accidents, the myriad factors involved in the reducing the number of accidents or incidents is within the purview of initial response planning activities.”

California asks that we define “emergency response plan.” EPCRA ⁹ defined the required elements of a community emergency response plan to include: Identification of facilities and transportation routes of extremely hazardous substances; description of emergency response procedures, on and off site; designation of a community coordinator and facility emergency coordinator(s) to implement the plan; outline of emergency notification procedures; description of how to determine the probable affected area and population by releases; description of local emergency equipment and facilities and the persons responsible for them; outline of evacuation plans; a training program for emergency responders (including schedules); and methods and schedules for exercising emergency response plans.

⁹ See 42 U.S.C. 11003(e), “Review by state emergency response commission, After completion of an emergency plan under subsection (a) of this section for an emergency planning district, the local emergency planning committee shall submit a copy of the plan to the State emergency response commission of each state in which such district is located. The commission shall review the plan and make recommendations to the committee on revisions of the plan that may be necessary to ensure coordination of such plan with emergency response plans of other emergency planning districts. To the maximum extent practicable, such review shall not delay implementation of such plan.”

California asks that PHMSA define “hazardous chemicals.” For the purposes of this information collection, “hazardous chemicals” means “any substances for which a facility must maintain a Material Data Safety Sheet under the Occupational Safety and Health Administration's Hazard Communication Standard,¹⁰ which lists the criteria used to identify a hazardous chemical.”

¹⁰ See 29 CFR 1910.1200.

California asks that we define “emergency responders.” For the purposes of this Notice, the emergency responders from whom PHMSA seeks information are public sector fire, police, and emergency medical service department employees or volunteers.

California asks PHMSA to define a “hazmat specialty unit.” For the purposes of this Notice, a “hazmat specialty unit” is a public sector fire, police, emergency medical service, or a combination thereof, that responds to and investigates incidents involving hazardous materials.

In response to PHMSA's question regarding the number of emergency response teams with a HAZMAT specialty unit that receives HMEP funds,” California asks, “what if the personnel making up these teams are already included in the other separate discipline totals, should they be accounted for under both categories?” The answer is yes. PHMSA seeks to collect information on the number of emergency responders and the number of hazmat teams.

In the 60-Day Notice, PHMSA proposes to request grantees to show the “actual cost of each completed activity using the following categories: Personnel ¹¹ costs; fringe benefits costs; travel costs; equipment costs; supplies costs; contractual costs; indirect costs; and other costs not listed.” California asks “does `completed activities' include all sub-grants and contracts?” The answer is yes. California further asks, “Currently all Sub-grant expenditures are allocated to the `Other' budget category. Will each sub-grant budget be broken out to these categories? If so, these figures will not match the SF-242A?” No, each sub-grant budget will remain under the Other” category. Detail of sub-grantee expenditures would be required in the proposed midyear and final report forms.

¹¹ California pointed out that in the 60-Day Notice there was a typographical error. PHMSA intended to state “personnel” not “personal.”

In the 60-Day Notice, PHMSA states that it seeks to collect “the aggregate expenditures exclusive of Federal funds for the last five years.” California asks PHMSA to clarify what this means. In authorizing a grant program, Congress sometimes includes language in the authorizing statute that requires a recipient to use the grant funds to augment or supplement funds that the entity has previously devoted to the purposes for which grant funds may now be provided. These requirements, depending on their phrasing, may be cited as maintenance of a specified level of expenditures or as a “supplement not supplant” requirement. The HMEP program has “aggregate expenditure” requirements, specified in 49 CFR 110.30(b)(2) for planning and 49 CFR 110.30(c)(2) for training, as grant application requirements.

In response the PHMSA's proposal to: “ask each planning grant recipient to explain the following goals and objectives: the current abilities and authorities of the grant recipient's program for preparedness planning; and the need to sustain or increase program capability,” California asks that PHMSA “Please define the `program' for the purposes of this report.” “Program” in this context is intended to mean the grantee's ability and authority to carry out proposed project and budgetary requirements outlined in the grant proposal.

PHMSA indicated in the 60-Day Notice that it seeks to ask for: “the number of fire, police, EMS, and any additional disciplines that received awareness, operation, technician, refresher, Incident Command System, and site specialist trainings.” California asked, “Are we to report the number of people who attended each class, or the number of people who completed the training to a certain certification level? For multi-week classes, are we reporting the number of people who attended each week, or those who completed the full course?” For clarification, PHMSA seeks to know the number of people who attended each class on a particular subject, and the number of people who completed training to certification level, e.g., multiple classes to receive a certificate. For multi-week classes, if it is one subject that involves multiple days to complete the class, PHMSA seeks to know the number of people who completed the full course.

E. Revised HMEP Questions and Information Collection Burden

While MAP-21 mandates that PHMSA collect detailed information at the sub-grantee level, PHMSA acknowledges that some of the additional information proposed in the 60-Day Notice may be difficult to obtain at the grantee level. In this 30-Day Notice, we remove some of the questions that grantees have indicated are impossible to answer.

PHMSA appreciates commenters' concerns that the additional burden resulting from the proposed revisions to the way grantees report on the programs funded by the HMEP grants may detract from grantees planning and training efforts. We continue to believe, however, that grantees' performance reports should include both quantitative and qualitative data in sufficient detail to enable the grantees and PHMSA to evaluate the programs, identify effective planning and training strategies, and target areas where improvements are needed. Grantees are currently required to provide data on the planning and training programs they administer; the more detailed information we are requesting should be readily available.

Nonetheless, in an effort to address the commenters' concerns, we have revised the list of questions to only include information required by law and accessible to grantees. We believe these adjustments will help to minimize the impact of the information collection burden on grantees. PHMSA has previously required applicants to include a narrative detailing progress made toward achieving agency goals and objectives, and accomplishing planning and training needs using HMEP Grant funds for previous budget periods. However, in response to concerns regarding increased reporting requirements, PHMSA will no longer require this narrative and will rely on the previously submitted progress report for any past data. In addition, PHMSA has removed some previous questions regarding a statement or detailed explanation in place of a simplified certification form. In response to commenters, PHMSA has reviewed the burden hours and have re-calculated the information collection burden associated with responding to the questions. The revised questions and information collection burden estimates are detailed below.

Beginning with the application for FY 2015 funds, applicants will be asked to respond to the following additional questions:

1. General Grantee Information

a. What is the designated agency's name?

b. What is the agency's full address?

c. Provide the full contact information for the authorized representative, program manager, and finance program manager (or equivalent). Contact information includes the full name, title, phone/fax numbers, and email address.

2. Hazmat Transportation Fees

a. Are fees collected for the transportation of hazardous materials in the grant recipient's state, territory, or Native American tribe? (yes or no)

b. If fees are collected, what is the dollar amount?

c. If such fees are collected, what percentage of the fee is used to carry out purposes related to the transportation of hazardous materials?

3. Hazmat facilities in the State, Territory or Tribal land

a. Provide the total number of Hazmat Facilities with hazardous chemicals in quantities that equal or exceed 500 pounds or the threshold of TPQ, whichever is lower.

b. Provide the total number of Hazmat Facilities with hazardous chemicals in quantities of 10,000 pounds or more.

4. HMEP Planning Grant Statement of Work

a. Provide a brief summary of what your agency plans to accomplish with the HMEP planning award in line with your program's goals and PHMSA's mission and priorities.

b. HMEP Federal planning grant amount requested.

c. Total Non-federal match required for planning grant.

d. Planning grant Goals and Objectives. List program goals and objectives to be achieved. For each goal planned, list the projected outcomes.

e. Planned Activities Supporting Program Goals. List planned activities to be performed under each goal previously listed above. Provide the estimated activity cost, projected activity start date and end date, and expected activity output.

f. Activities planned under Section 303 of EPCRA. List number of planned activities by each category: No. of Commodity Flow Studies to be Conducted, Number of Hazardous Risks Analyses to be Performed, Number of Emergency Plans to be Written, Number of Emergency Plans to be Updated, Number of Emergency Plans to be exercised.

5. LEPC Sub-Award Information

a. List the total number of LEPCs in your state, territory, or Tribal land, both active and inactive, and total number of LEPCs you plan to sub-award planning funds to.

b. Briefly explain your LEPCs/subgrantees selection process or the methodology you have used or plan to use to make subawards.

c. List the names of LEPCs you plan to sub-award HMEP planning funds to. If proposals have already been received, provide planned activities and estimated activities and estimated activity cost per LEPC.

6. HMEP Planning Supplemental Funding (Optional)

a. Briefly explain what additional planning activities you would complete with supplemental funding, if available.

b. Provide the estimated amount of supplemental funding that would be required to complete the proposed activities.

7. HMEP Training Grant Statement of Work

a. Provide a brief summary of what your agency plans to accomplish with the HMEP training award in line with your program's goals and PHMSA's mission and priorities.

b. HMEP Federal training grant amount requested.

c. Total Non-federal match required for training grant.

d. Training grant Goals and Objectives. List program goals and objectives to be achieved. For each goal planned, list the projected outcomes.

e. Planned Activities Supporting Program's Training Goals. List planned activities to be performed under each goal previously listed above. Provide the estimated activity cost, projected activity start date and end date, and expected activity output.

f. Activities planned under NFPA `472 Core Competency Standards. List number of individuals expected train under the following categories: Initial training (awareness, operational, specialist, technician) and Refresher Training (awareness, operational, specialist, technician).

g. Other training activities planned. List other training activities that you plan to carry out with HMEP training funds. Provide the number of courses planned and projected number of individuals to be trained.

8. LEPC Sub-Award Information

a. List the number of LEPCs you plan to sub-award training funds to.

b. Briefly explain your LEPCs/subgrantees selection process or the methodology you have used or plan to use to make training subawards.

c. If LEPC training proposals have already been received, provide the proposed training activities and estimated activity cost per LEPC.

9. HMEP Supplemental Training Funding (Optional)

a. Briefly explain what additional training activities you would complete with supplemental funding, if available.

b. Provide the estimated amount of supplemental funding that would be required to complete the proposed training activities.

10. Budget Narrative: complete a budget narrative to explain each line item of your project costs under both the Planning and Training grant applications. The budget narrative is extremely important as it provides transparency for proposed costs and Justification for costs that may appear questionable to the granting agency, and it provides details of how and where the applicant will satisfy cost-sharing requirements (matching). The following categories should be addressed: personnel costs, fringe benefits, consultants and outside contractors, supplies and equipment, travel, cost-sharing, other.

11. Indirect Costs. If indirect costs are included in the budget, identify the cognizant Federal agency for negotiation of the indirect cost rate and the approved indirect rate. Provide a copy of the most recent negotiated agreement. If your organization does not have a cognizant Federal agency, note that in the proposal and provide a brief explanation for how you calculated your indirect cost rate.

12. Certification. The agency must certify to the best of its knowledge and belief that the submitted application is correct and complete for the planned activities under the HMEP Grant Program Funding Requirements.

Reporting (Midyear and Final)

In addition to submitting an application, applicants will be required to provide the following information two times a year (midyear progress report and yearend report):

HMEP Training and Planning Assessment

PHMSA intends to ask each grant recipient to provide a midyear progress and an annual progress report during the course of the grant cycle on the following:

1. A narrative detailing how goals and objectives for the HMEP planning grant were achieved;

2. A brief description of any issues or delays that impacted the agency's ability to utilize or administer its HMEP award.

3. An explanation for an unexpended balance, if applicable.

4. A narrative detailing how the state/tribe/territory, through the use of HMEP planning funds, is better suited to handle accidents and incidents involving the transport of hazardous materials;

5. Sub-grantee information for reporting period

a. What are the names and requested funding amount for each sub-grantee?

b. What is the award amount of each sub-grantee?

c. What is the amount expended by the close of the reporting period for each sub-grantee?

d. Provide a list of the planning activities that occurred and the amount expended per LEPC.

e. LEPC EPCRA activities: provide the number of Commodity Flow Studies Conducted, Number of Hazardous Risks Analyses Performed, Number of Emergency Plans Written, Number of Emergency Plans Updated, Number of Emergency Plans or Drills Exercised, per LEPC.

f. Number of hazardous materials drills or exercises conducted during the performance period by mode of transport: air, water, highway, and rail;

g. The type of hazmat involved in planning exercises/drills

6. Information on Local Emergency Planning Committees

a. What is the total number of Local Emergency Planning Committees (LEPCs) (or equivalent) in the jurisdiction of the state, territory or Native American tribal land?

b. What is the number of Local Emergency Planning Committees (LEPCs) (or equivalent) that receives HMEP grant funds?

c. What is the number of Emergency Response Plans prepared or reviewed by LEPCs that receive HMEP grant funds in this grant cycle? ¹²

¹² 42 U.S.C. 11003(a) Plan required, Each local emergency planning committee shall complete preparation of an emergency plan in accordance with this section not later than two years after October 17, 1986. The committee shall review such plan once a year, or more frequently as changed circumstances in the community or at any facility may require.

7. Assessment of Response Capabilities for Accidents/Incidents Involving the Transportation of Hazardous Materials

a. What is the total number of public sector emergency responders in the following training categories?

i. Initial/Refresher

ii. Awareness

iii. Operational

iv. Specialist

v. Technician

b. What is the number of emergency response teams with a HAZMAT specialty unit that receive HMEP funds?

8. Provide ongoing and completed activities for each reporting period, including:

a. What is the name of the activity?

b. What is the purpose of the activity?

c. What is the number of participants involved in the activity?

d. What are the name and description of supplies needed to conduct the activity (if applicable)?

e. What are the name and description of any equipment needed to conduct the activity (if applicable)?

f. What was the start and end date for the activity (if applicable)?

g. What was the outcome of each completed activity?

h. What is the expected output of each completed activity?

i. Provide actual cost of each activity and state whether the activity is in progress or completed.

Certifications

1. I certify that the aggregate expenditure of funds, exclusive of Federal funds, for training public sector employees to respond to accidents and incidents involving hazardous materials under EPCRA will be maintained at a level that does not fall below the average level of such expenditures for the 5 fiscal years prior to the grant project. _____

2. I certify that the aggregate expenditure of funds of the state or territory, exclusive of Federal funds, for developing, improving, and implementing emergency plans under EPCRA will be maintained at a level that does not fall below the average level of such expenditures for the 5 fiscal years prior to the grant project. ______

3. I certify that the designated agency is complying with Sections 301 and 303 of EPCRA. ________

4. I certify that the designated agency will make available not less than 75 percent of the funds granted for the purpose of training public sector emergency response employees._______

5. I certify that the designated agency will make at least 75 percent of the amount of the grant in the fiscal year to local emergency planning committees established under section 301(c) of the Act (42 U.S.C. 11001 (c)) to develop emergency plans under the Act. _________

6. I certify that the agency is compliant with the National Incident Management System (NIMS). ______

Title: Hazardous Materials Public Sector Training and Planning Grants

OMB Control Number: 2137-0586

Type of Request: Revision of a currently approved information collection.

Abstract: Part 110 of 49 CFR sets forth the procedures for reimbursable grants for public sector planning and training in support of the emergency planning and training efforts of states, Indian tribes and local communities to manage hazardous materials emergencies, particularly those involving transportation. Sections in this part address information collection and recordkeeping with regard to applying for grants, monitoring expenditures, and reporting and requesting

Affected Public: State and local governments, territories, and Native American tribes.

Recordkeeping

The total revised information collection budget for the HMEP grants program follows:

|  | q
General Grantee and Sub-grantee information: | 62 respondents × 1 hr | = 62 hours.
Information on LEPCs: | 62 respondents × 1 hr | = 62 hours.
Assessment of Potential Chemical Threats: | 62 respondents × 1 hr | = 62 hours.
Assessment of Response Capabilities for Accidents/Incidents | 62 respondents × 0.5 hr | = 31 hours.
HMEP Planning and Training Grant Reporting | 62 respondents × 0.5 hr | = 31 hours.
HMEP Planning Goals and Objectives | 62 respondents × 0.5 hr | = 31 hours.
HMEP Training Goals and Objectives | 62 respondents × 0.33 hr | = 20.46 hours.
HMEP Training and Planning Assessment | 62 respondents × 0.5 hr | = 31 hours.
Hazmat Transportation Fees | 62 respondents × 0.45 hr | = 27.9 hours.
Grant Applicant is NIMS Compliant/Grant Application Is Reviewed By SERC | 62 respondents × .08 hr | = 4.96 hours.
HMEP Grant Program Administration | 62 respondents × 0.17 hr | = 10.54 hours.
Total Information Collection Burden: | 62 respondents | 373.86 hours.

Increase in Estimated Annual Burden Hours: | 373.86.
Increase in Estimated Annual Burden Costs: | $3,738.60.
Frequency of collection: Up to four (4) times | a year.

Issued in Washington, DC, on September 22, 2014, under authority delegated in 49 CFR 1.97.
William S. Schoonover,
Deputy Associate Administrator, Pipeline and Hazardous Materials Safety Administration.

[FR Doc. 2014-22903 Filed 9-25-14; 8:45 am]

BILLING CODE 4910-60-P